DEPARTMENT OF LABOR

Office of the Secretary

Agency Information Collection Activities; Submission for OMB Review; Comment Request for Information Collection for the National Guard Youth ChalleNGe Job ChalleNGe Evaluation, New Collection

ACTION: Notice

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed. A copy of the proposed Information Collection Request (ICR) can be obtained by contacting the office listed in the addressee section of this notice.

DATES: Written comments must be submitted to the office listed in the addressee's section below on or before September 21, 2015.

ADDRESSES: You may submit comments by either one of the following methods: Email: ChiefEvaluationOffice@dol.gov; Mail or Courier: Molly Irwin, U.S. Department of Labor, Room S-2312, 200 Constitution Avenue NW., Washington, DC 20210.

FOR FURTHER INFORMATION CONTACT: Molly Irwin by telephone at 202-693-5091 (this is not a toll-free number) or by email at ChiefEvaluationOffice@dol.gov.

SUPPLEMENTARY INFORMATION:

I. Background

The National Guard Youth ChalleNGe program is one of a handful of interventions that have demonstrated positive, sustained impacts on the educational attainment and labor market outcomes of youth who are not in school or the labor force. The goal of Youth ChalleNGe, a residential program, is to build confidence and maturity, teach practical life skills, and help youth obtain a high school diploma or GED. The program's numerous activities address its eight core pillars: Leadership/followership, responsible citizenship, service to community, life-coping skills, physical fitness, health and hygiene, job skills, and academic excellence.

To build on the success of Youth ChalleNGe, the Employment and Training Administration issued $12 million in grants in early 2015 for three Youth ChalleNGe programs to: (1) Expand the program's target population to include youth who have been involved with the courts and (2) add an occupational training component, known as Job ChalleNGe. The addition of the Job ChalleNGe component will expand the residential time by five months and offer the following activities: (1) Occupation skills training, (2) individualized career and academic counseling, (3) work-based learning opportunities, and (4) leadership development activities.

The National Guard Youth ChalleNGe Job ChalleNGe Evaluation, funded by the U.S. Department of Labor, Chief Evaluation Office, will help policymakers and program administrators determine the impacts of expanding Youth ChalleNGe to court-involved youth and adding the Job ChalleNGe component to the existing Youth ChalleNGe model. The study will evaluate how these program enhancements are implemented and how effective they are, both for youth overall and for court-involved youth in particular. The study will address four research questions: (1) How were the programs implemented?, (2) What impacts did Youth ChalleNGe and Job ChalleNGe have on the outcomes of participants?, (3) To what extent did participation in Job ChalleNGe change the overall impact of Youth ChalleNGe on program participants?, and (4) To what extent did impacts vary for selected subpopulations of participants?

The first research question will be addressed through an implementation study of the three grantee demonstrations. The remaining three questions will be addressed through an impact study of the Youth ChalleNGe and Job ChalleNGe programs. For the impact study, the feasibility of using randomized controlled trials to estimate program effectiveness will be assessed; if needed, a comparison group of youth from Youth ChalleNGe sites that did not receive grants will be included in the study. Only youth who agree to participate in the study will be allowed to participate in the Youth ChalleNGe and Job ChalleNGe programs at the grantees included in the study; active consent will be obtained from youth 18 years of age or older and from a parent or guardian of youth under the age of 18.

This Federal Register Notice provides the opportunity to comment on two proposed data collection instruments that will be used in the National Guard Youth ChalleNGe Job ChalleNGe evaluation:

(1) Baseline Information Form (BIF). A BIF will be included in the Youth ChalleNGe application packet and completed by youth. The form will collect demographic information as well as baseline measures of major outcome variables, including: Current employment, past delinquency, expectations about future education, work experience and other topics, and detailed contact information.

(2) Site visit protocols. Site visits will occur twice. The first will occur early in the study period and will collect information about grantees' plans and procedures, the backgrounds and experiences of youth served, the nature of employers' involvement in the programs, and other topics. The second visit will occur later in the grant and evaluation periods and will collect information on whether and how plans and activities for the Youth ChalleNGe and Job ChalleNGe programs have changed since the first visit.

A future information collection request will include an 18-month follow up survey of youth in the Job ChalleNGe treatment and control or comparison groups.

II. Review Focus

Currently, DOL is soliciting comments concerning the above data collection for the National Guard Youth ChalleNGe Job ChalleNGe Evaluation. DOL is particularly interested in comments that do the following:

• Evaluate whether the proposed collection of information is necessary for the proper performance functions of the agency, including whether the information will have practical utility;

• Evaluate the accuracy of the agency's burden estimate of the proposed information collection, including the validity of the methodology and assumptions used;

• Enhance the quality, utility, and clarity of the information to be collected; and

• Minimize the burden of the collection of information on those who are to respond, including through the use of appropriate automated, electronic, mechanical, or other technological collection techniques or other forms of information technology (for example, permitting electronic submissions of responses).

III. Current Actions

At this time, DOL is requesting clearance for the BIF and the site visit protocols.

Type of Review: New collection.

Title: National Guard Youth ChalleNGe Job ChalleNGe Evaluation.

OMB Number: OMB Control Number 1205-0NEW.

Estimated Total Burden Hours
Respondents | Number of respondents | Number of responses per respondent | Average burden time per response (minutes) | Total burden hours
Baseline Information Forms
Youth | ᵃ 4,050 | 1 | 15 | 1,013
Site Visits ᵇ
Visit 1:
Staff | ᶜ 113 | 1 | 60 | 113
Employers | 3 | 1 | 60 | 3
Participants | 42 | 1 | 60 | 42
Visit 2:
Staff | ᶜ 104 | 1 | 30 | 104
Employers | 6 | 1 | 60 | 6
Participants | 42 | 1 | 60 | 42
Total | 4,360 |  |  | 1,323
ᵃ This corresponds to 2,700 treatment and 1,350 control group youths across the Youth ChalleNGe and Job ChalleNGe programs in the study.
ᵇ This is based on visits to three sites.
ᶜ Some respondents will participate in interviews that last more than 1 hour. Therefore, the table provides an upper estimate of the number of separate respondents.

Affected Public: Youth applying for and/or participating in the Youth ChalleNGe program and the Job ChalleNGe program; Youth ChalleNGe and Job ChalleNGe program and partner staff; and employers.

Form(s): Total respondents: 4,050 youth; 113 program and partner staff, and 9 employers.

Annual Frequency: One time for the BIF, one time for each site visit.

Comments submitted in response to this comment request will be summarized and/or included in the request for Office of Management and Budget approval of the information collection request; they will also become a matter of public record.

Dated: July 13, 2015.
Marybeth Maxwell,
Deputy Assistant Secretary for Policy, U.S. Department of Labor.

[FR Doc. 2015-18076 Filed 7-22-15; 8:45 am]

BILLING CODE 4510-HX-P